DEPARTMENT OF AGRICULTURE

Foreign Agricultural Service

AGENCY: Foreign Agricultural Service, USDA.

ACTION: Advisory Committee on Emerging Markets: Nominations.

SUMMARY: Notice is hereby given that nominations are being sought for qualified persons to serve on the Advisory Committee on Emerging Markets. The role of the committee is to provide information and advice, based upon knowledge and expertise of the members, useful to the U.S. Department of Agriculture (USDA) in implementing the Emerging Markets Program. The committee also advises USDA on ways to increase the involvement of the U.S. private sector in cooperative work with emerging markets in food and rural business systems and reviews proposals submitted to the Program for funding technical assistance activities.

DATES: Written nominations must be received by the Foreign Agricultural Service (FAS) before or at the close of business January 2, 2002.

ADDRESSES: All nominating materials should be sent to Mr. Douglas Freeman, Foreign Agricultural Service, Room 4932-Stop 1042, U.S. Department of Agriculture, 1400 Independence Avenue, SW., Washington, DC 20250-1042. Forms may also be submitted by fax to (202) 720-9361.

FOR FURTHER INFORMATION CONTACT: Persons interested in serving on the Advisory Committee on Emerging Markets or in nominating individuals to serve, should contact FAS by telephone (202) 720-4327, by fax (202) 720-9361, by mail (Mr. Douglas Freeman, Foreign Agricultural Service, Room 4932—Stop 1042, U.S. Department of Agriculture, 1400 Independence Avenue, S.W., Washington, D.C. 20250-1042), or by electronic mail to emo@fas.usda.gov and request Form AD-755 and Form SF-181. Form AD-755 is required and is available at the FAS home page: http://www.fas.usda.gov/admin/ad755.pdf. Form SF-181 is requested but optional, and is available at http://www.fas.usda/admin/sf181.pdf.

SUPPLEMENTARY INFORMATION: The Advisory Committee on Emerging Markets is authorized by section 1542 of the Food, Agriculture, Conservation, and Trade Act of 1990 (Public Law 101-624), as amended. The overall purpose of the Committee is “to provide the Secretary with information that may be useful * * * in carrying out the provisions of [the Emerging Markets Program].” The Committee is to be composed of representatives of the various sectors of the food and rural business systems of the United States. More information about the purpose and function of the Advisory Committee may be found at the FAS/Emerging Markets Program Web site: http://www.fas.usda.gov/mos/em-markets/acem.html. The members of the Advisory Committee are appointed by the Secretary of Agriculture and serve at the discretion of the Secretary. Committee members serve without compensation, but can receive reimbursement for travel expenses to attend Committee meetings if requested, in accordance with USDA travel regulations.

The Committee has a balanced membership of up to 20 members, representing a broad cross-section of the U.S. agricultural and agribusiness industry. All appointments will expire two years from the date of appointment. The Secretary may renew an appointment for one or more additional terms.

Most meetings will be held in Washington, DC, though other locations may be selected on an occasional basis. Committee meetings will be open to the public, unless the Secretary of Agriculture determines that the Committee will be discussing issues the disclosure of which justify closing all or a portion of a meeting, in accordance with 5 U.S.C. 552(c).

Nominations are open to all individuals without regard to race, color, religion, sex, national origin, age, physical handicap, marital status, or sexual orientation. To ensure that the work of the Committee takes into account the needs of the diverse groups served by the Department of Agriculture, membership shall include, to the extent practicable, individuals with demonstrated ability to represent the interest of minorities, women, and persons with disabilities.

Members are selected primarily for their experience, expertise and knowledge of international agriculture and of trade and development issues as they affect emerging markets. No person, company, producer, farm organization, trade association, or other entity has a right to representation on the Committee. In making selections, every effort will be made to maintain balanced representation of the various broad industries within the United States, and of a geographic diversity as well.

Signed at Washington, DC, November 26, 2001.
Mary T. Chambliss,
Acting Administrator, Foreign Agricultural Service.

[FR Doc. 01-29876 Filed 11-30-01; 8:45 am]

BILLING CODE 3410-10-P